DEPARTMENT OF DEFENSE

Department of the Navy

[Docket ID: USN-2014-0019]

Privacy Act of 1974; System of Records

AGENCY: Department of the Navy, DoD.

ACTION: Notice to alter a System of Records.

SUMMARY: The Department of the Navy proposes to alter the system of records, NM07010-1, entitled “DON Non-Appropriated Funds Standard Payroll System”, in its inventory of record systems subject to the Privacy Act of 1974, as amended. This system will be used to compute employees' pay entitlements and deductions and issue payroll checks for amounts due; to withhold amounts due for Federal, state, and city taxes, to remit withholdings to the taxing authorities, and to report earnings and tax collections; and upon request of employees, to deduct specified amounts from earnings for charity, union dues, and for allotments to financial organizations.

DATES: Comments will be accepted on or before July 16, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Web site at http://dpclo.defense.gov/.

The proposed system report, as required by 5 U.S.C. 552a(r) of the Privacy Act of 1974, as amended, was submitted on May 16, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 10, 2014.
Aaron Siegel,
Alternate OSD Federal Register Liaison Officer, Department of Defense.

NM07010-1

System name:

DON Non-Appropriated Funds Standard Payroll System (December 20, 2004, 69 FR 75937).

Changes:

* * * * *

System location:

Delete entry and replace with “Non-appropriated activities in the Department of the Navy (DON). Official mailing addresses are published in the Standard Navy Distribution List available as an appendix to the Navy's compilation of system of records notices and may be obtained from the System Manager.”

* * * * *

Categories of records in the system:

Delete entry and replace with “Individual name, Social Security Number (SSN), DoD ID Number, mailing/home address, amount of pay, status of payment, history of the claim; and information concerning individual record to include time and attendance records; personal payroll data listings; correspondence; combined payroll checks and employee leave and earning statements; Federal, state, and city tax reports and or tapes; and individual pay and leave records.”

Authority for maintenance of the system:

Delete entry and replace with “10 U.S.C. 5013, Secretary of the Navy; CNICINST-7000.3, Accounting Procedures for Non-Appropriated Funds; and E.O. 9397 (SSN), as amended.”

* * * * *

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

To the Internal Revenue Service to record wages earned, tax withheld and social security information.

To state revenue departments to credit employee's state withholding.

To state employment agencies which require wage information to determine eligibility for unemployment compensation benefits of former employees.

To city revenue departments of appropriate cities to credit employees for city tax withheld.

The DoD Blanket Routine Uses set forth at the beginning of the Department of Navy's compilation of system of records notices may apply to this system.

Note: Disclosure to consumer reporting agencies:

Disclosures pursuant to 5 U.S.C. 552a(b)(12) may be made from this system to `consumer reporting agencies' as defined in the Fair Credit Reporting Act (14 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records.

The disclosure is limited to information necessary to establish the identity of the individual, including name, address, and taxpayer identification number (Social Security Number), the amount, status, and history of the claim; and the agency or program under which the claim arose for the sole purpose of allowing the consumer reporting agency to prepare a commercial credit report.”

* * * * *

Storage:

Delete entry and replace with “Paper and electronic storage media.”

Retrievability:

Delete entry and replace with “Name and/or SSN.”

Safeguards:

Delete entry and replace with “Access to records is limited to person(s) responsible for servicing the record system in the performance of their official duties and who have been properly screened, trained, and have a need-to-know. Paper records are stored in security files container/cabinets and safes. Physical access is controlled by guards, personnel screening and visitor registers. Information maintained on a computer requires Common Access Card (CAC), Public Key Infrastructure (PKI), and/or User ID and password.”

Retention and disposal:

Delete entry and replace with “Records are transferred to the National Personnel Records Center and then destroyed when 56 years old.”

System manager(s) and address:

Delete entry and replace with “Head, NAF Accounting Section, Commander, Navy Installations Command, Millington Detachment, 5720 Integrity Drive, Millington, TN 38055-6500.

Record Holder in Non-appropriated fund activities in the Department of the Navy.

Official mailing addresses are published in the Standard Navy Distribution List available as an appendix to the Navy's compilation of system of records notices and may be obtained from the System Manager.”

Notification procedure:

Delete entry and replace with “Individuals seeking to determine whether this system of records contains information about themselves should address written inquiries to the commanding officer of the activity in question. Official mailing addresses are published in the Standard Navy Distribution List available as an appendix to the Navy's compilation of system of records notices and may be obtained from the System Manager.

The request should include full name, SSN, address of the individual concerned, and should be signed.

The system manager may require an original signature or a notarized signature as a means of proving the identity of the individual requesting access to the records.”

Record access procedures:

Delete entry and replace with “Individuals seeking access to information about themselves contained in this system of records should address written inquiries to the commanding officer of the activity in question. Official mailing addresses are published in the Standard Navy Distribution List available as an appendix to the Navy's compilation of system of records notices and may be obtained from the System Manager.

The request should include full name, SSN, address of the individual concerned, and should be signed.

The system manager may require an original signature or a notarized signature as a means of proving the identity of the individual requesting access to the records.”

* * * * *

[FR Doc. 2014-13921 Filed 6-13-14; 8:45 am]

BILLING CODE 5001-06-P